FEDERAL TRADE COMMISSION

Grant of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—04/19/2006
20060799 | Abbott Laboratories | Boston Scientific Corporation | Boston Scientific Corporation.
20060822 | Armor Holdings, Inc | Stewart & Stevenson Services, Inc | Stewart & Stevenson Services, Inc.
20060845 | Hanson PLC | General Dynamics Corporation | Material Service Corporation.
20060874 | Dell Inc | Allenware Corporation | Allenware Corporation.
20060906 | AO-ASIF Foundation | Synthes, Inc | Synthes, Inc.
20060907 | Synthes, Inc | AO-ASIF Foundation | AO-ASIF Foundation.
20060915 | AG Private Equity Partners III, L.P | Marks and Spencer Group p.l.c | Kings Super Markets, Inc., Marks and Spencer Finance Inc.
20060923 | Warburg Pincus Private Equity IX, L.P | The Lightyear Fund, L.P | LY Telmar Holdings Corp.
20060925 | Boston Scientific Corporation | Guidant Corporation | Guidant Corporation.
Transactions Granted Early Termination—04/20/2006
20060920 | EQT IV No. 1 LP | Gambro AB | Gambro AB.
Transactions Granted Early Termination—04/21/2006
20060850 | Verisign, Inc | m-Qube, Inc | m-Qube, Inc.
20060921 | U.S. Premium Beef, LLC | Brawley Beef, LLC | Brawley Beef, LLC.
20060933 | AT&T Inc | Deutsche Telekom AG | T-Mobile USA, Inc.
20060934 | Deutsche Telekom AG | AT&T Inc | Cingular Wireless LLC.
20060941 | William H. Gates III | Magnum Coal Company | Magnum Coal Company.
20060943 | Macquarie Bank Limited | Macquarie Global Infrastructure Fund A | Macquarie North American Infrastructure Inc.
20060944 | Macquarie Bank Limited | Macquarie Global Infrastructure Fund B | Macquarie North American Infrastructure Inc.
20060954 | Wolseley plc | Steve Menzies | DSI Inc., Efficient Enterprises, Inc., United Plumbing, LLC.
20060956 | Quincy Newspapers, Inc | Raycom Media, Inc | KWWL License Subsidiary, LLC, KWWL, LLC.
Transactions Granted Early Termination—04/24/2006
20060939 | Cerberus FIM Investors, LLC | General Motors Corporation | General Motors Acceptance Corporation, LLC.
20060955 | Pogo Producing Company | Warburg Pincus Private Equity VIII | Latigo Petroleum, Inc.
20060957 | President and Fellows of Harvard College | Sempra Energy | Energy Pacific Glendale, Energy Pacific Las Vegas, Sempra Facilities Management.
20060966 | Nautic Partners V, L.P | Paul & Pamela Roy | Big Train, Inc.
20060967 | Nautic Partners V, L.P | Craig Meyers and Francine Meyers | Big Train, Inc.
20060974 | CHS Private Equity V, LP | Allied Capital Corporation | STS Operating, Inc.
Transactions Granted Early Termination—04/25/2006
20060871 | Linsalata Capital Partners Fund IV, L.P | W. Randall Holloway | Holloway Group, Inc., Holloway Sportswear, Inc.
20060887 | Fisher Scientific International Inc | Clintrak Pharmaceutical Services, LLC | Clintrak Pharmaceutical Services, LLC.
20060919 | SAP AG | Virsa Systems, Inc | Virsa Systems, Inc.
20060927 | Macquarie Infrastructure Company Trust | Loving Enterprises, Inc | Loving Enterprises, Inc.
20060940 | Mr. William J. McEnery | Isle of Capri Casinos, Inc | CSNO, L.L.C., IOC Holdings, L.L.C., Louisiana Riverboat Gaming Partnership, LRGP Holdings, L.L.C., Riverboat Corporation of Mississippi-Vicksburg.
20060950 | Red Hat, Inc | JBoss Inc | JBoss Inc.
20060951 | Marc Fleury | Red Hat, Inc | Red Hat, Inc.
20060968 | L'Oreal S.A | The Body Shop International PLC | The Body Shop International PLC.
20060972 | Arctic Glacier Income Fund | Steven C. Gabriel and Dana M. Gabriel | Diamond Newport Corporation, Mountain Water Ice Company.
20060976 | Camcem, S.A. de C.V | Floyd R. Hardesty | Alliance Transportation, Inc., The Hardesty Company, Inc.
Transactions Granted Early Termination—04/26/2006
20060883 | Northern Border Partners, L.P | Guardian Pipeline, L.L.C | Guardian Pipeline, L.L.C.
20060913 | James F. McCann | Fannie May Confections Brands, Inc | Fannie May Confections Brands, Inc.
20060952 | FC-THC Acquisition LLC | Behrman Capital II L.P | Tandem Health Care, Inc.
20060965 | Parametric Technology Corporation | Edison Venture Fund IV, L.P | Mathsoft Corporate Holdings, Inc.
Transactions Granted Early Termination—04/28/2006
20060958 | Li & Fung Limtied | Oxford Industries, Inc | Oxford Industries, Inc.
20060978 | The Southern Company | Progress Energy, Inc | DeSoto County Generating Company, LLC.
20060984 | Kohlberg Investors V, L.P | KIPB Group Holdings, LLC | KIPB Group Holdings, LLC.
20060985 | TPG Partners II, L.P | LSI Logic Corporation | LSI Logic Corporation.
20060999 | Smart Hydrogen Inc | Plug Power Inc | Plug Power Inc.

For Further Information Contact: Sandra M. Peay, Contact Representative or Renee Hallman, Contact Representative; Federal Trade Commission, Premerger Notification Office, Bureau of Competition, Room H-303, Washington, DC 20580, (202) 326-3100.

By Direction of the Commission.
Donald S. Clark,
Secretary.

[FR Doc. 06-4406 Filed 5-10-06; 8:45am]

BILLING CODE 6750-01-M